FEDERAL COMMUNICATIONS COMMISSION

47 CFR Part 73

[DA 02-299; MM Docket No. 98-159; RM-9290]

Radio Broadcasting Services; Wallace, ID, and Bigfork, MT

AGENCY: Federal Communications Commission.

ACTION: Final rule, petition for reconsideration.

SUMMARY: This document denies a Petition for Reconsideration filed by Bee Broadcasting, Inc. directed to the Report and Order in this proceeding. See 66 FR 29726, published May 17, 2001. Specifically, that action reallotted Channel 264C to Bigfork, Montana, and modified the Station KSIL construction permit accordingly.

FOR FURTHER INFORMATION CONTACT: Robert Hayne, Mass Media Bureau (202) 418-2177.

SUPPLEMENTARY INFORMATION: This is a synopsis of the Commission's Memorandum Opinion and Order in MM Docket No. 98-159, adopted February 6, 2002, and released February 8,2002. The full text of this decision is available for inspection and copying during normal business hours in the FCC's Reference Information Center at Portals II, CY-A257, 445 12th Street, SW., Washington, DC. The complete text of this decision may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-4219 Filed 2-21-02; 8:45 am]

BILLING CODE 6712-01-P